EXPORT-IMPORT BANK

Economic Impact Policy

This notice is to inform the public that the Export-Import Bank of the United States has received an application for a $53 million long-term guarantee to support the export of approximately $48 million worth of steel processing equipment and services to the UK. The U.S. exports will enable the British company to process and sell a maximum of 20,000 metric tons of cold rolled steel, 180,000 metric tons of galvanized steel, and toll process up to 270,000 metric tons of pickled and oiled steel per year during the 7-year repayment term of the guarantee. The British steel processor is not an integrated steel producer. Available information indicates that this British production of cold rolled steel will be sold in the UK, and the galvanized steel will be sold internationally. It is anticipated that the toll processed pickled and oiled steel will be consumed in the UK and Europe. Interested parties may submit comments on this transaction by e-mail to economic.impact@exim.gov or by mail to 811 Vermont Avenue, NW., Room 947, Washington, DC 20571, within 14 days of the date this notice appears in the Federal Register.

Jonathan J. Cordone,
Senior Vice President and General Counsel.

[FR Doc. 2010-19663 Filed 8-9-10; 8:45 am]

BILLING CODE 6690-01-P